DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for 7 of its 13 national marine sanctuary advisory councils and for the Northwestern Hawaiian Islands Coral Reef Ecosystem Reserve Advisory Council (advisory councils). Vacant seats, including positions (i.e., primary member and alternate), for each of the advisory councils are listed in this notice under SUPPLEMENTARY INFORMATION. Applicants are chosen based upon their particular expertise and experience in relation to the seat for which they are applying; community and professional affiliations; views regarding the protection and management of marine or Great Lake resources; and possibly the length of residence in the area affected by the sanctuary. Applicants who are chosen as members or alternates should expect to serve two- or three year terms, pursuant to the charter of the specific national marine sanctuary advisory council or the Northwestern Hawaiian Islands Coral Reef Ecosystem Reserve Advisory Council.

DATES: Applications are due by June 30, 2015.

ADDRESSES: Application kits are specific to each advisory council. As such, application kits must be obtained from and returned to the council-specific addresses noted below.

• Channel Islands National Marine Sanctuary Advisory Council: Michael Murray, Channel Islands National Marine Sanctuary, University of California Santa Barbara, Ocean Science Education Building 514, MC 6155, Santa Barbara, CA, 93106-6155; (805) 893-6418; email Michael.Murray@noaa.gov; or download application from http://channelislands.noaa.gov/sac/council_news.html.

• Flower Garden Banks National Marine Sanctuary Advisory Council: Shelley DuPuy, Flower Garden Banks National Marine Sanctuary, 4700 Avenue U, Bldg. 216, Galveston, TX 77551; (409) 621-5151 extension 106; email Shelley.DuPuy@noaa.gov; or download application from http://flowergarden.noaa.gov/advisorycouncil/councilnews.html.

• Gray's Reef National Marine Sanctuary Advisory Council: Becky Shortland, Gray's Reef National Marine Sanctuary, 10 Ocean Science Circle, Savannah, GA 31411; (912) 598-2381; email Becky.Shortland@noaa.gov; or download application from http://graysreef.noaa.gov/management/sac/council_news.html.

• Hawaiian Islands Humpback Whale National Marine Sanctuary Advisory Council: Inouye Regional Center, ATTN: NOS/ONMS/Shannon Lyday, 1845 Wasp Blvd., Building 176, Honolulu, HI 96818; (808) 725-5905; email Shannon.Lyday@noaa.gov; or download application from http://hawaiihumpbackwhale.noaa.gov/council/council_app_accepting.html.

• Monitor National Marine Sanctuary Advisory Council: Katherine Van Dam, Monitor National Marine Sanctuary, 100 Museum Drive, Newport News, VA 23606; (757) 591-7350; email Katherine.VanDam@noaa.gov; or download application from http://monitor.noaa.gov.

• National Marine Sanctuary of American Samoa Advisory Council: Joseph Paulin, National Marine Sanctuary of American Samoa, Tauese P.F. Sunia Ocean Center, P.O. Box 4318 Pago Pago, American Samoa 96799; (684) 633-6500; email Joseph.Paulin@noaa.gov; or download application from http://americansamoa.noaa.gov.

• Stellwagen Bank National Marine Sanctuary Advisory Council: Elizabeth Stokes, Stellwagen Bank National Marine Sanctuary, 175 Edward Foster Road, Scituate MA 02066; (781) 545-8026 extension 201; email elizabeth.stokes@noaa.gov; or download application from http://stellwagen.noaa.gov/management/sac/sachome.html.

FOR FURTHER INFORMATION CONTACT: For further information on a particular national marine sanctuary advisory council, please contact the individual identified in the ADDRESSES section of this notice.

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. National marine sanctuary advisory councils are community-based advisory groups established to provide advice and recommendations to the superintendents of the national marine sanctuaries on issues including management, science, service, and stewardship; and to serve as liaisons between their constituents in the community and the sanctuary. Additional information on ONMS and its advisory councils can be found at http://sanctuaries.noaa.gov. Information related to the purpose, policies and operational requirements for advisory councils can be found in the charter for a particular advisory council (http://sanctuaries.noaa.gov/management/ac/council_charters.html) and the National Marine Sanctuary Advisory Council Implementation Handbook (http://www.sanctuaries.noaa.gov/management/ac/acref.html).

The following is a list of the vacant seats, including positions (i.e., primary member or alternate), for each of the advisory councils currently seeking applications for members and alternates:

Channel Islands National Marine Sanctuary Advisory Council: Non-consumptive Recreation (primary); and Non-consumptive Recreation (alternate).

Flower Garden Banks National Marine Sanctuary Advisory Council: Recreational Fishing (primary).

Gray's Reef National Marine Sanctuary Advisory Council: Conservation (primary); University Education (primary); Sport Diving (primary); and Citizen-at-Large (primary).

Hawaiian Islands Humpback Whale National Marine Sanctuary Advisory Council: Commercial Shipping (primary); Commercial Shipping (alternate); Hawaii County (alternate); Lanai Island (alternate); Citizen-at-Large (alternate); Education (alternate); Tourism (alternate); and Whale Watching (alternate).

Monitor National Marine Sanctuary Advisory Council: Commercial and Recreational Fishing (primary).

National Marine Sanctuary of American Samoa Advisory Council: Business and Industry (primary); and Community-at-Large: Tutuila—West Side (primary).

Stellwagen Bank National Marine Sanctuary Advisory Council: At-Large (primary); Business Industry (primary); Diving (primary); Diving (alternate); Education (2 primary seats); Fixed Gear Commercial Fishing (primary); Fixed Gear Commercial Fishing (alternate); Mobile Gear Commercial Fishing (alternate); Recreational Fishing (alternate); Research (2 alternate seats); and Whale Watch (primary).

Authority: 16 U.S.C. Sections 1431, et seq.

(Federal Domestic Assistance Catalog Number 11.429 Marine Sanctuary Program)

Dated: April 13, 2015.
Daniel J. Basta,
Director, Office of National Marine Sanctuaries, National Ocean Service, National Oceanic and Atmospheric Administration.

[FR Doc. 2015-11630 Filed 5-14-15; 8:45 am]

BILLING CODE 3510-NK-P